DEPARTMENT OF HOUSING AND URBAN DEVELOPMENT

[Docket No. FR-5478-N-05]

Privacy Act of 1974; Notification of the Establishment of a Privacy Act System of Records, HUD Integrated Acquisition Management System (HIAMS)

AGENCY: Office of the Chief Information Officer, HUD.

ACTION: Notification of the Establishment of a New Privacy Act System of Records.

SUMMARY: HUD proposes to establish a new record system to add to its inventory of system of records subject to the Privacy Act of 1974 (5 U.S.C. 552a), as amended. The proposed system of records, identified as HIAMS will be used by HUD's Office of the Chief Procurement Officer, as well as HUD's regional program offices, to store and manage HUD acquisition-related data from acquisition planning through contract completion. The regional offices will have access to HIAMS for the purposes of entering and reading data into the system. The system will consist of data elements about all companies or institutions authorized to do business with HUD as registered vendors within the Central Contractor Registry (CCR), overseen by the General Services Administration.

DATES: Effective Date: This action will be effective without further notice on November 28, 2011 unless comments are received that would result in a contrary determination.

Comments Due Date: November 28, 2011.

ADDRESSES: Interested persons are invited to submit comments regarding this new system of records to the Rules Docket Clerk, Office of General Counsel, Department of Housing and Urban Development, 451 Seventh Street, SW., Room 10276, Washington, DC 20410-3000. Communications should refer to the above docket number and title. FAX comments are not acceptable. A copy of each communication submitted will be available for public inspection and copying between 8 a.m. and 5 p.m., weekdays at the above address.

FOR FURTHER INFORMATION CONTACT: Harold Williams, Acting Departmental Privacy Act Officer, Office of the Chief Information Officer, Department of Housing and Urban Development, 451 Seventh Street, SW., Room 2256, Washington, DC 20410, telephone number (202) 402-8087, or the Assistant Chief Procurement Officer, Elie Stowe, Department of Housing and Urban Development, Washington, DC 20410, telephone number (202) 708-0294 or (202) 402-3556. (These are not toll free numbers.) A telecommunication device for hearing- and speech-impaired individuals (TTY) is available at 1-(800) 877-8339 (Federal Information Relay Service).

SUPPLEMENTARY INFORMATION: Title 5 U.S.C. 552a(e)(4) and (11) provides that the public be afforded a 30-day period in which to comment on the new record system. The new system report, as required by 5 U.S.C. 552a(r) of the Privacy Act, was submitted to the Committee on Homeland Security and Governmental Affairs of the United States Senate, the Committee on Oversight and Government Reform of the House of Representatives, and the Office of Management and Budget (OMB) Pursuant to Paragraph 4c of Appendix I to OMB Circular No. A-130, Federal Agency Responsibilities for Maintaining Records About Individuals, dated June 25, 1993 (58 FR 36075, July 2, 1993).

Authority: 5 U.S.C. 552a, 88 Stat. 1896; 42 U.S.C. 3535(d).

Dated: October 19, 2011.
Jerry E. Williams,
Chief Information Officer.

HUD/CPO/01

System Name:

HUD Integrated Acquisition Management System (HIAMS).

System Location:

HUD Information Technology Systems (HITS) Production Data Center located in South Charleston, West Virginia, and the HUD Headquarters, Washington, DC 20410, Intranet General Support System, which is also managed by the HITS contractor.

Categories of individuals covered by the system:

All companies or institutions doing business with HUD and registered as vendors within the Central Contractor Registry (CCR).

Categories of Records in the System:

HIAMS will collect and store vendor Taxpayer Identification Numbers (TINs), vendor names, and associated point-of-contacts information: such as names, Social Security numbers when used in lieu of TINs, Dun and Bradstreet Number (DUN) numbers, and other business related data, such as business telephone numbers, email addresses and business addresses.

Authority for maintenance of the system:

Businesses that choose to do business with the Department are required by law to provide the information identified herein (31 U.S.C. 7701(c); 31 U.S.C. 3325(d); 26 U.S.C. 6050M; 26 U.S.C. 6041 and 6041A). The vendor Tax ID Number is transmitted from the CCR. CCR registration requires vendors who want to do business with the federal government to supply TINs under 31 U.S.C. 7701(c). Vendor SSNs are supplied under Clause 52.222-8, Payrolls and Basic Records, of the Federal Acquisition Regulations (FAR) in accordance with the Davis Bacon Act.

Purposes:

The Office of the Chief Procurement Officer is implementing the HIAMS as an enterprise-wide, end-to-end acquisition management system. The information in HIAMS will be used by HUD to identify companies or institution doing business with HUD. The information in HIAMS will be shared with HUD financial management systems to: Record contract obligations and facilitate timely payments; meet mandatory reporting requirements (Federal Procurement Data System—Next Generation; and to compile statistics regarding HUD procurement activity. HIAMS will include acquisition and/or procurement-related data from planning through contract completion. The data maintained in HIAMS include budget execution information required to facilitate financial transactions throughout the procurement process (e.g., agency expenditures; invoices; billing dispute resolution documentation; reconciliation documents; service level agreements; distribution of shared expenses; goods acquisition information (which involves the procurement of physical goods, products, and capital assets to be used by the Federal government); and services acquisition information, which involves oversight and/or management of contractors and service providers from the private sector.

Routine Uses of Records Maintained in the System, Including Categories of Users and the Purposes of Such Uses:

1. To HUD contractors, consultants or others, when necessary to perform a function or service related to this system of records for which they have been engaged. Such recipients are required to comply with the Privacy Act of 1974, as amended (5 U.S.C. 552a).

2. To Federal, State and local entities for the purpose of the regular exchange of business contact information to facilitate collaboration for official contract business.

3. To disclose requirements, and business opportunities through Federal Business Opportunities (FEDBizOpps) and FedConnect. All information posted is non-proprietory and unclassified. HUD uses FedBizOpps and FedConnect, to solicit vendor(s).

4. To appropriate agencies, entities, and persons when:

a. the Department suspects or has confirmed that the security or confidentiality of information in the system of records has been compromised;

b. the Department has determined that, as a result of the suspected or confirmed compromise, there is a risk of harm to economic or property interests, identity theft or fraud, or harm to the security or integrity of this system or other systems or programs (whether maintained by HUD or another agency or entity) that rely upon the compromised information; and

c. the disclosure made to such agencies, entities, and persons is reasonably necessary to assist in connection with HUD's efforts to respond to the suspected or confirmed compromise and prevent, minimize, or remedy such harm.

Policies and practices for storing, retrieving, accessing, retaining, and disposing of records in the system:

Storage:

All data are stored on the production HIAMS database servers. The data are backed up regularly in accordance with HUD policy. The storage practice for paper-based records includes storage, indirect monitoring, and file expiration. Paper based records do not include electronic downloads. All paper records are stored in a metal Electronic “Lektriever Vertical Carousel” repository. Sign out sheets are used to remove the files from the repository.

Retrievability:

Vendor points-of-contacts names, vendor name and address and telephone number, DUN, TIN, and SSN.

Safeguards:

Strict access controls are governed for electronic records by the use of a user ID and password that require authentication before access is granted to HIAMS. Paper based records do not include electronic downloads. All paper records are stored in a metal Electronic “Lektriever Vertical Carousel” repository. Sign out sheets are used to remove the files from the repository.

Retention and Disposal:

Records retention and disposal are in accordance with FAR Subpart 4.7 for Contractor Records Retention. HIAMS has the ability to store archived data and is defaulted after 7 years. This complies with all federal regulations. The retention periods for contract files and/or procurement files are found in the General Records Schedule issued by the National Archives and Records Administration, Schedule 3, Item 3. The procurement records are held for 6 years and 3 months and destroyed in accordance with the referenced schedule.

System Manager(s) and Address:

Elie Stowe, Assistant Chief Procurement Office for Policy and Systems, HUD, Washington DC 20410.

Notification and Access Procedures:

For information, assistance, or inquiry about the existence of records, contact the Acting Departmental Privacy Act Officer, Department of Housing and Urban Development, 451 7th Street SW., Washington, DC 20410. Written requests must include the full name, Social Security number, date of birth, current address, and telephone number of the individual making the request.

Contesting Record Procedures:

Procedures for the amendment or correction of records, and for applicants who want to appeal initial agency determinations, appear in 24 CFR, Part 16.

(i) In relation to contesting contents of records, the Acting Departmental Privacy Act Officer at HUD, 451 Seventh Street, SW., Room 4178, Washington, DC 20410, and;

(ii) In relation to appeals of initial denials, HUD, Departmental Privacy Appeals Officer, Office of General Counsel, 451 Seventh Street, SW., Washington, DC 20410.

Record Source Categories:

Information contained in this system is obtained from information contained in other government agencies CCR, Federal Procurement Data System—Next Generation (FPDS-NG), Online Representations and Certifications Application (ORCA), Federal Business Opportunities (FedBizOpps), and FedConnect; and/or information already in other HUD financial systems: HUD Central Accounting and Program System, and PeopleSoft HUD Integrated Core Financial System.

Exemptions from certain provisions of the Act:

None.

[FR Doc. 2011-27986 Filed 10-27-11; 8:45 am]

BILLING CODE 4210-67-P